SECURITIES AND EXCHANGE COMMISSION

[Release No. 34-4251 / March 10, 2000, File No. 4-430]

Order Extending the Deadline for Compliance With Portions of the Commission's January 28, 2000, Order Directing the Exchanges and the National Association of Securities Dealers, Inc. To Submit a Decimalization Implementation Plan Pursuant to Section 11A(a)(3)(B) of the Securities Exchange Act of 1934

On January 28, 2000, the Securities and Exchange Commission (“Commission”) issued an order requiring the American Stock Exchange LLC, the Boston Stock Exchange, Inc., the Chicago Board Options Exchange, Inc., the Chicago Stock Exchange, Inc, the Cincinnati Stock Exchange, Inc., the National Association of Securities Dealers, Inc. (“NASD”), the New York Stock Exchange, Inc., the Pacific Exchange, Inc., and the Philadelphia Stock Exchange, Inc. (collectively, the “Participants”) ¹ to take certain, specific steps necessary to facilitate an orderly transition to decimal pricing in United States securities markets (the “Decimals Order”).² The Decimals Order prescribed a timetable for the Participants to complete the required steps. The two earliest deadlines set by the Decimals Order require the Participants to submit jointly by March 13, 2000 a Decimals Implementation Plan, and each Participant to submit by March 28, 2000 proposed rule changes necessary to implement the Decimals Implementation Plan.

¹ Since the date of the Decimals Order, the Commission has approved the registration of the International Securities Exchange (“ISE”) as a national securities exchange. Release No. 34-42455. Accordingly, the Commission hereby includes ISE within the term “Participants” as used in this Order.

² Release No. 34-42360 (Jan. 28, 2000), 65 FR 5003 (February 2, 2000).

Shortly before the March 13 deadline, the NASD announced that it would be unable to begin implementing decimal pricing on July 3, 2000, as required by the Decimals Order. The NASD's announcement necessarily has consequences for the Decimals Implementation Plan being prepared by the Participants. As the Decimals Order emphasized, because of complex technical and other issues relating to the ways in which United States securities markets and related systems are linked, “it is imperative that all market participants convert to decimals in a coordinated manner.” ³

³ Id. at 8.

The Commission therefore deems it appropriate and in the public interest to extend until April 14, 2000 the deadline for the Participants to submit jointly a Decimals Implementation Plan required by the Decimals Order. The Commission further deems it appropriate and in the public interest to extend until April 28, 2000 the deadline for each of the Participants to submit the proposed rule changes necessary to implement the Decimals Implementation Plan.

Accordingly, it is hereby ordered that the deadline for the Participants to submit the Decimals Implementation Plan required by the Decimals Order is extended until April 14, 2000.

It is hereby further ordered that the deadline for the Participants to submit the proposed rule changes necessary to implement the Decimals Implementation Plan is extended until April 28, 2000.

By the Commission.
Margaret H. McFarland,
Deputy Secretary.

[FR Doc. 00-6608 Filed 3-16-00; 8:45 am]

BILLING CODE 8010-01-M